FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than April 21, 2025.

A. Federal Reserve Bank of Chicago (Colette A. Fried, Assistant Vice President) 230 South LaSalle Street, Chicago, Illinois 60690-1414. Comments can also be sent electronically to Comments.applications@chi.frb.org:

1. Glenn E. Mensching, Jr., Teresa B. Mensching, both of Frankfort, Michigan; Jack E. Mensching, Kathleen G. Mensching, James R. Mensching, and Lynnea G. Mensching, all of Itasca, Illinois; Julie Mensching Hrejsa, Elmhurst, Illinois; to join the Mensching Family Group, a group acting in concert, to acquire the voting shares of Itasca Bancorp, Inc., and thereby indirectly acquire voting shares of Itasca Bank & Trust Co., both of Itasca, Illinois.

Additionally, Seth D. Mensching, Henry Cira Mensching, both of Ann Arbor, Michigan; Jack E. Mensching IRA, Itasca, Illinois; Michael Francis Gara, Mary Gara, both of Waterford, Wisconsin; Jeffrey Hrejsa, Elmhurst, Illinois; Julie Mensching Hrejsa as custodian for a minor child, Elmhurst, Illinois; Susan G. Kolosovsky, Jonathan G. Kolosovsky, both of Itasca, Illinois; and Susan G. Kolosovsky as custodian for minor children, Itasca, Illinois; James R. Mensching Beneficiary IRA, Itasca, Illinois; Emily Grace Mensching, Ft. Lauderdale, Florida; and Devon Elise Mensching Schubert, Pflugerville, Texas; to join the Mensching Family Group, a group acting in concert, to retain the voting shares of Itasca Bancorp, Inc., and thereby indirectly retain voting shares of Itasca Bank & Trust Co., both of Itasca, Illinois.

B. Federal Reserve Bank of Minneapolis (Mark Nagle, Assistant Vice President) 90 Hennepin Avenue, Minneapolis, Minnesota 55480-0291. Comments can also be sent electronically to MA@mpls.frb.org:

1. The Harold G. Wahlquist Revocable Trust, Eden Prairie, Minnesota, Harold G. Wahlquist Jr., Eden Prairie, Minnesota, and Katherine M. Wahlquist, St. Louis Park, Minnesota, individually and as co trustees, Charles P. Wahlquist, West End, North Carolina, and Andrew C. Wahlquist, Plymouth, Minnesota; to become members of the Wahlquist Family Group, a group acting in concert, to retain voting shares of MidWest Bancorporation Inc., Eden Prairie, Minnesota, and thereby indirectly retain voting shares of Star Bank, Maple Lake, Minnesota.

Board of Governors of the Federal Reserve System.
Michele Taylor Fennell,
Associate Secretary of the Board.

[FR Doc. 2025-05849 Filed 4-3-25; 8:45 am]

BILLING CODE 6210-01-P